DEPARTMENT OF COMMERCE

National Oceanic and Atmospheric Administration

50 CFR Part 223

[Docket No. 991007270-2042-02; I.D. 090399E]

RIN 0648-AM89

Sea Turtle Conservation; Summer Flounder Trawling Requirements

AGENCY: National Marine Fisheries Service (NMFS), National Oceanic and Atmospheric Administration (NOAA), Commerce.

ACTION: Final rule.

SUMMARY: NMFS adopts as final, without change, an interim final rule that amends the regulations that require summer flounder trawlers to use Turtle Excluder Devices (TEDs) in waters off Virginia and North Carolina to reduce the incidental capture of endangered and threatened sea turtles. NMFS is requiring that any approved hard TED or special TED installed in a summer flounder trawl be installed in a TED extension (a cylinder of webbing in which the TED is installed). NMFS also is providing specifications for the TED extension and requiring that it be constructed of webbing no larger than 3.5-inch (8.9 cm) stretched mesh. The intent of this final rule is to prevent adverse impacts to turtles in the course of summer flounder trawling.

DATES: This final rule is effective May 17, 2002.

ADDRESSES: Requests for a copy of the environmental assessment (EA) prepared for the interim final rule should be addressed to the Chief, Endangered Species Division, Office of Protected Resources, NMFS, 1315 East-West Highway, Silver Spring, MD 20910.

FOR FURTHER INFORMATION CONTACT: David M. Bernhart (ph. 727-570-5312, fax 727-570-5517, e-mail David.Bernhart@noaa.gov).

SUPPLEMENTARY INFORMATION: Through an interim final rule published October 15, 1999 (64 FR 55860), NMFS amended 50 CFR part 223 to require that an approved hard TED or special hard TED installed in a summer flounder trawl be installed in a TED extension. The interim final rule provided specifications for the length and webbing size of the required extension. The rationale for the regulatory amendment was provided in the preamble to the interim final rule and is not repeated here. Comments were requested. No comments were received.

Classification

NMFS prepared an EA for the interim final rule which concluded that the rule would have no significant impact on the human environment. A copy of the EA is available (see ADDRESSES).

This final rule has been determined to be not significant for purposes of Executive Order 12866.

Because prior notice and comment were not required for the interim final rule or this final rule by U.S.C. 553, or any other law, the analytical requirements of the Regulatory Flexibility Act, 5 U.S.C. 601 et seq., are inapplicable.

This final rule does not contain a collection-of-information requirement for purposes of the Paperwork Reduction Act.

Accordingly, the interim final rule amending 50 CFR part 223 that was published at 64 FR 55860 on October 15, 1999, is adopted as final without change.

Authority: 16 U.S.C. 1531, et seq.

Dated: April 10, 2002.
Rebecca Lent,
Deputy Assistant Administrator for Regulatory Programs,National Marine Fisheries Service.

[FR Doc. 02-9353 Filed 4-16-02; 8:45 am]

BILLING CODE 3510-22-S